NUCLEAR REGULATORY COMMISSION

[NRC-2010-0138]

Office of New Reactors; Proposed Standard Review Plan, Branch Technical Position 7-19 on Guidance for Evaluation of Diversity and Defense-in-Depth in Digital Computer-Based Instrumentation and Control Systems

AGENCY: Nuclear Regulatory Commission (NRC).

ACTION: Solicitation of public comment.

SUMMARY: The NRC staff is soliciting public comment on its Proposed NUREG-0800, “Standard Review Plan for the Review of Safety Analysis Reports for Nuclear Power Plants,” Branch Technical Position (BTP) 7-19, on Guidance for Evaluation of Diversity and Defense-in-Depth in Digital Computer-Based Instrumentation and Control Systems (Agencywide Documents Access and Management System (ADAMS) Accession No. ML093490771). This BTP is to be cited as the acceptance criteria for Diversity and Defense-in-Depth (D3) in Digital Computer-Based Instrumentation and Control Systems in the Standard Review Plan (SRP), Chapter 7, for those standard reactor designs that have not been certified prior to the date of this BTP.

The NRC staff issues SRPs and BTPs to facilitate timely implementation of current staff guidance and to facilitate activities associated with the review of applications for design certification (DC) and combined licenses (COL) by the Office of New Reactors (NRO). Additionally, the SRPs and BTPs are used by the Office of Nuclear Reactor Regulation (NRR) staff in the review of applications for license amendments in currently operating nuclear power plants (NPPs). The NRC staff will also incorporate the revised SRP section and BTP 7-19 into the next revision of Regulatory Guide 1.206 and any related guidance documents.

DATES: Comments must be filed no later than 60 days from the date of publication of this notice in the Federal Register. Comments received after this date will be considered, if it is practical to do so, but the Commission is able to ensure consideration only for comments received on or before this date.

ADDRESSES: You may submit comments by any one of the following methods. Please include Docket ID NRC-2010-0138 in the subject line of your comments. Comments submitted in writing, or in electronic form, will be posted on the NRC Web site and on the Federal rulemaking Web site http://www.regulations.gov. Your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2010-0138. Address questions about NRC dockets to Carol Gallagher at 301-492-3668; e-mail at Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at 301-492-3446.

The NRC ADAMS provides text and image files of NRC's public documents. These documents may be accessed through the NRC's Public Electronic Reading Room on the Internet at http://www.nrc.gov/reading-rm/adams.html. Persons who do not have access to ADAMS, or who encounter problems in accessing the documents located in ADAMS, should contact the NRC Public Document Room reference staff by telephone at 1-800-397-4209, 301-415-4737, or by e-mail at pdr.resource@nrc.gov.

FOR FURTHER INFORMATION CONTACT: Mr. Ian C. Jung, Chief, Instrumentation, Controls and Electrical Engineering Branch 2, Division of Engineering, Office of New Reactors, U.S. Nuclear Regulatory Commission, Washington, DC 20555-0001; telephone at 301-415-2969 or e-mail at Ian.Jung@nrc.gov.

SUPPLEMENTARY INFORMATION: This SRP, NUREG-0800, has been prepared to establish criteria that the NRO staff use to evaluate if DC and COL applications meet the NRC's regulations. NRR staff also will use these criteria to evaluate whether licensee applications for license amendments for currently operating NPPs conform to NRC regulations. The SRP is not a substitute for the NRC's regulations, and compliance with it is not required. However, applicants are required to identify differences between design features, analytical techniques, and procedural measures proposed for a facility and corresponding SRP acceptance criteria, and evaluate how the proposed alternatives to the acceptance criteria provide an acceptable method of complying with the NRC's regulations.

The agency posts its issued staff guidance in the agency external Web page (http://www.nrc.gov/reading-rm/doc-collections/nuregs/staff/sr0800).

The NRC staff is issuing this notice to solicit public comments on proposed BTP 7-19, which is being issued for the first time. After the NRC staff considers any public comments, it will make a determination regarding proposed BTP 7-19.

Dated at Rockville, Maryland, this 19th day of March 2010.
For the Nuclear Regulatory Commission,
George M. Tartal,
Acting Branch Chief, Rulemaking and Guidance Development Branch, Division of New Reactor Licensing, Office of New Reactors.

[FR Doc. 2010-6762 Filed 3-25-10; 8:45 am]

BILLING CODE 7590-01-P